ENVIRONMENTAL PROTECTION AGENCY

[FRL-9917-36-Region-1]

Availability of Final NPDES General Permits Mag250000 and Nhg250000 for Discharges of Non-Contact Cooling Water in Massachusetts and New Hampshire

AGENCY: Environmental Protection Agency.

ACTION: Notice.

SUMMARY: The Director of the Office of Ecosystem Protection, Environmental Protection Agency (EPA)—Region 1, is providing a notice of availability of the final National Pollutant Discharge Elimination System (NPDES) Non-contact Cooling Water General Permit (NCCW GP) for Massachusetts and New Hampshire. The general permit replaces the NCCW GP that expired on July 31, 2013.

DATES: The NCCW GP shall be effective on November 3, 2014 and will expire at midnight on November 4, 2019.

ADDRESSES: The required notice of intent (NOI) information to obtain permit coverage is provided in the NCCW GP. This information shall be submitted to both EPA and the appropriate state agency. NOIs may be sent via regular or overnight mail to EPA—Region 1, NCCW GP Processing OEP 06-4, 5 Post Office Square—Suite 100, Boston, Massachusetts 02109-3912 and the appropriate state agency at the addresses listed in in Appendix 6 of the NCCW GP.

FOR FURTHER INFORMATION CONTACT: Additional information concerning the NCCW GP may be obtained between the hours of 9 a.m. and 5 p.m. Monday through Friday, excluding holidays, by contacting Suzanne Warner, Office of Ecosystem Protection (OEP 06-4), 5 Post Office Square—Suite 100, Boston, MA 02109-3912; telephone: 617-918-1383; email: warner.suzanne@epa.gov.

SUPPLEMENTARY INFORMATION: EPA is proposing to reissue two general permits for non-contact cooling water discharges to certain waters in the Commonwealth of Massachusetts and the State of New Hampshire. While the general permits are two distinct permits, for convenience, EPA has grouped them together in a single document and will refer to them as a singular “permit”. The general permit, appendices and fact sheet are available online at: http://www.epa.gov/region1/npdes/nccwgp.html.

The general permit establishes NOI requirements, effluent limitations, standards, prohibitions, and in some cases best technology available (BTA) requirements for facilities that discharge small amounts of non-contact cooling water in Massachusetts and New Hampshire.

Non-contact cooling water is water used for cooling that does not come into contact with any raw material, intermediate product, waste product, or finished product; the only anticipated pollutant is heat. Discharges composed of anything other than non-contact cooling water will not be granted coverage under this general permit. Those dischargers must seek coverage under an individual permit or an appropriate general permit.

The permit includes effluent limitations based on best professional judgment (BPJ) and water quality considerations. The effluent limits established in the permit assure that the surface water quality standards of the receiving water are maintained and/or attained. The permit also contains BTA requirements for cooling water intake structures for facilities that withdraw less than 1 million gallons per day of surface water for non-contact cooling in order to ensure source water protection. For facilities that use groundwater or municipal drinking water for non-contact cooling, the permit establishes effluent limitations and/or additional monitoring for expected constituents (metals and residual chlorine, respectively).

Other Legal Requirements

Endangered Species Act (ESA)

EPA has updated the provisions and necessary actions and documentation related to potential impacts to endangered species from facilities seeking coverage under the NCCW GP. EPA has requested concurrence from the appropriate federal services (U.S. Fish and Wildlife Service and National Marine Fisheries Service) regarding the requirements of this general permit.

National Historic Preservation Act (NHPA)

In accordance with NHPA, EPA has established provisions and documentation requirements for facilities seeking coverage under the NCCW GP to ensure that discharges or actions taken under this permit will not adversely affect historic properties and places.

Authority: This action is being taken under the Clean Water Act, 33 U.S.C. 1251 et seq.

Dated: September 24, 2014.
Carl Dierker,
Acting Regional Administrator, Region 1.

[FR Doc. 2014-23537 Filed 10-1-14; 8:45 am]

BILLING CODE 6560-50-P